DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 13, 2004 [FR Doc. 04-18536, Vol. 69, No. 156, Pages 50234-50235].

DATES: Comments must be submitted on or before March 28, 2005.

FOR FURTHER INFORMATION CONTACT: Christina Morgan at the National Highway Traffic Safety Administration, Office of Planning, Evaluation, and Budget (NPO-321), 202-366-2562, 400 Seventh Street, SW., 5208V, Washington, DC 20590.

SUPPLEMENTARY INFORMATION:

National Highway Traffic Safety Administration

Title: The Impact of LATCH on Child Restraint Use.

OMB Number: 2127—New.

Type of Request: Request for public comment on proposed collection of information.

Abstract: The data will provide information on the impact of Lower Anchors and Tethers for Children (LATCH) on child safety seat use. Specifically, NHTSA will find out if consumers are using the LATCH system to install child safety seats, if they are easy to install, and the percentage that are being installed correctly. The evaluation is required under Executive Order 12866.

Affected Public: Individuals.

Estimated Total Annual Burden: 832 hours.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC on February 17, 2005.
Noble N. Bowie,
Associate Administrator for Planning, Evaluation, and Budget.

[FR Doc. 05-3617 Filed 2-24-05; 8:45 am]

BILLING CODE 4910-59-P